DEPARTMENT OF AGRICULTURE

Forest Service

RIN 0596-AD06

Notice of Reopening of Public Comment Period—Proposed Directives for Forest Service Land Management Planning

AGENCY: Forest Service, USDA.

ACTION: Notice of reopening of public comment period.

SUMMARY: The Forest Service is reopening the public comment period for the proposed directive regarding land management planning for an additional 15 days. The original notice called for comments to be submitted by April 29, 2013.

DATES: Comments must be received, in writing, on or before May 24, 2013.

ADDRESSES: Submit comments concerning the proposed directives through one of the following methods:

1. Public participation portal: https://cara.ecosystem-management.org/Public/CommentInput?Project=30641. Comments may also be provided through the Federal rulemaking portal: http://www.regulations.gov.

2. Facsimile: Fax to: 503.224.1851. Please identify your comments by including “RIN 0596-AD06” or “planning directives” on the cover sheet or the first page.

3. U.S. Postal Service: The mailing address is: USDA Forest Service Planning Directives Comments, P.O. Box 40088, Portland, OR 97240.

All comments, including names and addresses when provided, are placed in the record and are available for public inspection and copying. The Agency cannot confirm receipt of comments. Individual wishing to inspect comments should call Jody Sutton at 801.517.1020 to schedule an appointment.

FOR FURTHER INFORMATION CONTACT: Annie Eberhart Goode, (202) 205-1056, Planning Specialist, Ecosystem Management Coordination.

Individuals who use telecommunication devices for the deaf (TDD) may call the Federal Information Relay Service (FIRS) at 1-800-877-839 between 8:00 a.m. and 8:00 p.m. Eastern Standard Time, Monday through Friday.

SUPPLEMENTARY INFORMATION: The Forest Service has proposed Land Management Planning Directives for inclusion in the Forest Service Handbook (FSH 1909.12) and Manual (FSM 1920) establishing procedures and responsibilities for implementing the National Forest System (NFS) land management planning regulation published in the Federal Register on April 9, 2012 (77 FR 21162) and set out at 36 CFR part 219. To provide the public the opportunity to review and comment on these proposed directives, the Agency initiated a 60-day comment period which closed on April 29, 2013. The Agency has decided to reopen the comment period for an additional 15 days to provide an opportunity to gather additional public input to inform the final Land Management Planning Directives.

Dated: May 2, 2013.
Thomas L. Tidwell,
Chief, U.S. Forest Service.

[FR Doc. 2013-10998 Filed 5-8-13; 8:45 am]

BILLING CODE 3410-11-P